DEPARTMENT OF ENERGY

Federal Energy Regulatory Commission

[Docket No. CP04-37-000, CP04-44-000, CP04-45-000, and CP04-46-000]

Corpus Christi LNG, L.P., Cheniere Corpus Christi Pipeline Company; Notice of Availability of the Draft Environmental Impact Statement for the Proposed Cheniere Corpus Christi LNG Project

November 18, 2004.

The staff of the Federal Energy Regulatory Commission (FERC or Commission) has prepared a draft Environmental Impact Statement (EIS) on the liquefied natural gas (LNG) import terminal and natural gas pipeline facilities in Nueces and San Patricio Counties, Texas proposed by Corpus Christi LNG, L.P. and Cheniere Corpus Christi Pipeline Company (collectively referred to as Cheniere) in the above-referenced dockets.

The draft EIS was prepared to satisfy the requirements of the National Environmental Policy Act. The staff concludes that approval of the proposed project with appropriate mitigating measures as recommended, would have limited adverse environmental impact. The draft EIS also evaluates alternatives to the proposal, including system alternatives, alternative sites for the LNG import terminal, and pipeline alternatives.

Cheniere's proposed facilities would have a nominal output of about 2.6 billion cubic feet of imported natural gas per day to the U.S. market. In order to provide LNG import, storage, and pipeline transportation services, Cheniere requests Commission authorization to construct, install, and operate the following LNG terminal and natural gas pipeline facilities:

• A new marine basin and dredged maneuvering area, together with 2 berths for LNG ships, and another dock for tugs and line boats;

• 3 LNG unloading arms and 1 vapor return arm at each LNG ship berth, and transfer pipelines extending from the docks to the storage tanks;

• 3 LNG storage tanks, each with a nominal working volume of approximately 160,000 cubic meters (1,006,400 barrels equivalent), 3 submerged vertical pumps within each tank, and earthen dikes around each tank capable of containing 110 percent of the gross tank volume;

• 16 LNG sendout pumps, 16 submerged combustion LNG vaporizers, 3 boil-off gas compressors and a boil-off gas condensing system, and natural gas metering;

• LNG terminal control instrumentation and safety systems, including hazard detection and fire response, and buildings housing administrative offices, warehouse/maintenance, utilities, and a gatehouse;

• 23 miles of 48-inch-diameter natural gas pipeline, three mainline valves, and launcher and receiving facilities; and

• 8 interconnects with existing intrastate and interstate pipelines, and associated metering facilities.

Comment Procedures and Public Meetings

Any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP04-37-000, et al.;

• Label one copy of your comments for the attention of Gas Branch 3, PJ11.3; and

• Mail your comments so that they will be received in Washington, DC on or before January 4, 2005.

Please note that we are continuing to experience delays in mail deliveries from the U.S. Postal Service. As a result, we will include all comments that we receive within a reasonable time frame in our environmental analysis of the project. However, the Commission strongly encourages electronic filing of any comments or interventions to this proceeding. See 18 CFR 385.2001(a)(1)(iii) and the instructions on the FERC's Internet Web site at http://www.ferc.gov under the “e-Filing” link and the link to the User's Guide. Before you can file comments you will need to create a free account which can be created online.

In addition to or in lieu of sending written comments, we invite you to attend the public comment meeting we will conduct in the project area. The location and time for the meeting is listed below: December 15, 2004, 7 p.m. (c.s.t.); Portland Community Center, 2000 Billy G Webb, Portland, TX 78374, Telephone: 361-777-3301.

The meeting will be posted on the Commission's calendar located at http://www.ferc.gov/EventCalendar/EventsList.aspx along with other related information. Interested groups and individuals are encouraged to attend and present oral comments on the draft EIS. Transcripts of the meeting will be prepared.

After these comments are reviewed, any significant new issues would be investigated by the FERC staff. A final EIS incorporating appropriate modifications will be published and distributed. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426, (202) 502-8371.

A limited number of copies are available from the Public Reference Room identified above. In addition, copies of the draft EIS have been mailed to Federal, State, and local agencies; public interest groups; individuals and affected landowners who requested a copy of the draft EIS; libraries; newspapers; and parties to this proceeding.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Linda Mitry,
Deputy Secretary.

[FR Doc. E4-3313 Filed 11-23-04; 8:45 am]

BILLING CODE 6717-01-P